DEPARTMENT OF COMMERCE

International Trade Administration

[C-357-821]

Biodiesel From Argentina: Rescission of Countervailing Duty Administrative Review; 2020

AGENCY: Enforcement and Compliance, International Trade Administration, United States Department of Commerce.

SUMMARY: The Department of Commerce (Commerce) is rescinding the administrative review of the countervailing duty (CVD) order on biodiesel from Argentina for the period of review, (POR) January 1, 2020, through December 31, 2020, based on the timely withdrawal of the request for review.

DATES: Applicable May 6, 2021.

FOR FURTHER INFORMATION CONTACT: Elfi Blum, AD/CVD Operations, Office VII, Enforcement and Compliance, International Trade Administration, U.S. Department of Commerce, 1401 Constitution Avenue NW, Washington, DC 20230; telephone: (202) 482-0197.

Background: On January 5, 2021, Commerce published a notice of opportunity to request an administrative review of the CVD duty order on biodiesel from Argentina for the POR.¹ On January 29, 2021, the National Biodiesel Board Fair Trade Coalition (the petitioner) timely requested an administrative review of the CVD order with respect to 18 companies.² On March 4, 2021, in accordance with section 751(a) of the Tariff Act of 1930, as amended (the Act), and 19 CFR 351.221(c)(1)(i), Commerce initiated an administrative review of the CVD order for the POR with respect to these 18 companies.³ On March 23, 2021, Commerce placed U.S. Customs and Border Protection (CBP) entry data for U.S. imports of biodiesel from Argentina for the POR on the record of this review.⁴ On April 22, 2021, based on a lack of suspended entries from the companies subject to the review, Commerce placed its notice of intent to rescind this review on the record and invited interested parties to comment.⁵ Then, on April 23, 2021, the petitioner timely withdrew its request for review for all 18 companies.⁶

¹ See Antidumping or Countervailing Duty Order, Finding, or Suspended Investigation; Opportunity to Request Administrative Review, 86 FR 291 (January 5, 2021).

² See Petitioner's Letter, “Biodiesel from Argentina: Request for Administrative Review of countervailing Duty Order,” dated January 29, 2021. The requested companies are: (1) Aceitera General Deheza S.A.; (2) Bio Nogoya S.A.; (3) Bunge Argentina S.A.; (4) Cargill S.A.C.I.; (5) COFCO Argentina S.A.; (6) Cámara Argentina de Biocombustibles; (7) Explora; (8) GEFCO Argentina; (9) LDC Argentina S.A.; (10) Molinos Agro S.A.; (11) Noble Argentina; (12) Oleaginosa Moreno Hermanos S.A.; (13) Patagonia Bioenergia; (14) Renova S.A.; (15) T6 Industrial SA (EcoFuel); (16) Unitec Bio S.A.; (17) Vicentin S.A.I.C.; and (18) Viluco S.A.

³ See Initiation of Antidumping and Countervailing Duty Administrative Reviews, 86 FR 12599, 12606 (March 2, 2021) (Initiation Notice).

⁴ See Memorandum, “Administrative Review of the Countervailing Duty Order on Biodiesel from Argentina: Release of U.S. Customs entry Data for Respondent Selection; 2020,” dated March 23, 2021.

⁵ See Memorandum, “Administrative Review of Countervailing Duty Order on Biodiesel from Argentina; 2020: Notice of Intent to Rescind Review,” dated April 22, 2021.

⁶ See Petitioner's Letter, “Biodiesel from Argentina: Response to Notice of Intent to Rescind Reviews and Withdrawal of Request for Administrative Review of Countervailing Duty Order,” dated April 23, 2021.

Rescission of Review: Pursuant to 19 CFR 351.213(d)(1), Commerce will rescind an administrative review, in whole or in part, if the parties that requested the review withdraw their requests within 90 days of the publication date of the notice of initiation of the requested review. The petitioner withdrew its request for review for all 18 companies within 90 days of the publication of the Initiation Notice, and no other party requested an administrative review of the CVD order for the POR. Therefore, in accordance with 19 CFR 351.213(d)(1), Commerce is rescinding the administrative review of the CVD order on biodiesel from Argentina for the POR, in its entirety.

Assessment: Commerce will instruct CBP to assess countervailing duties on all appropriate entries of biodiesel from Argentina during the POR at rates equal to the cash deposit rates for estimated countervailing duties that were required at the time of entry, or withdrawal from warehouse, for consumption, in accordance with 19 CFR 351.212(c)(1)(i). Commerce intends to issue appropriate assessment instructions to CBP no earlier than 35 days after the date of publication of this rescission notice in the Federal Register.

Notification Regarding Administrative Protective Orders: This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a violation which is subject to sanction.

Notification to Interested Parties: This notice is issued and published in accordance with sections 751(a)(1) and 777(i)(1) of the Act, and 19 CFR 351.213(d)(4).

Dated: April 30, 2021.
James Maeder,
Deputy Assistant Secretary for Antidumping and Countervailing Duty Operations.

[FR Doc. 2021-09548 Filed 5-5-21; 8:45 am]

BILLING CODE 3510-DS-P